SECURITIES AND EXCHANGE COMMISSION

[Release No. 34-92531; File No. SR-NYSEArca-2021-07]

Self-Regulatory Organizations; NYSE Arca, Inc.; Notice of Designation of a Longer Period for Commission Action on Proceedings To Determine Whether To Approve or Disapprove a Proposed Rule Change To Amend NYSE Arca's Co-Location Services and Fee Schedule To Add Two Partial Cabinet Solution Bundles

July 30, 2021.

On January 19, 2021, NYSE Arca, Inc. (“NYSE Arca” or “Exchange”) filed with the Securities and Exchange Commission (“Commission”), pursuant to Section 19(b)(1) of the Securities Exchange Act of 1934 (“Act”) ¹ and Rule 19b-4 thereunder,² a proposed rule change to amend the Exchange's co-location rules to add two partial cabinet solution bundles. The proposed rule change was published for comment in the Federal Register on February 8, 2021.³ On March 18, 2021, the Commission extended the time period within which to approve the proposed rule change, disapprove the proposed rule change, or institute proceedings to determine whether to approve or disapprove the proposed rule change, to May 9, 2021.⁴ On May 6, 2021, the Commission instituted proceedings to determine whether to approve or disapprove the proposed rule change.⁵ The Commission received a comment letter on the proposal from the Exchange.⁶

¹ 15 U.S.C. 78s(b)(1).

² 17 CFR 240.19b-4.

³ See Securities Exchange Act Release No. 91044 (February 2, 2021), 86 FR 8662 (SR-NYSEArca-2021-07) (“Notice”).

⁴ See Securities Exchange Act Release No. 91360, 86 FR 15763 (March 24, 2021) (SR-NYSEArca-2021-07).

⁵ See Securities Exchange Act Release No. 91785 (May 6, 2021), 86 FR 26082 (May 12, 2021) (SR-NYSE-2021-05, SR-NYSENAT-2021-01, SR-NYSEArca-2021-07, SR-NYSEAMER-2021-04, NYSECHX-2021-01).

⁶ See, respectively, letter dated July 6, 2021 from Elizabeth K. King, Chief Regulatory Officer, ICE, General Counsel and Corporate Secretary, NYSE to Vanessa Countryman, Secretary, Commission. All comments received by the Commission on the proposed rule change are available on the Commission's website at: https://www.sec.gov/comments/sr-nyse-2021-05/srnyse202105.htm.

Section 19(b)(2) of the Act ⁷ provides that, after initiating proceedings, the Commission shall issue an order approving or disapproving the proposed rule change not later than 180 days after the date of publication of notice of the filing of the proposed rule change. The Commission may extend the period for issuing an order approving or disapproving the proposed rule change, however, by not more than 60 days if the Commission determines that a longer period is appropriate and publishes the reasons for such determination. The proposed rule change was published for comment in the Federal Register on February 8, 2021.⁸ The 180th day after publication of the Notice is August 7, 2021. The Commission is extending the time period for approving or disapproving the proposal for an additional 60 days.

⁷ 15 U.S.C. 78s(b)(2).

⁸ See supra note 3.

The Commission finds that it is appropriate to designate a longer period within which to issue an order approving or disapproving the proposed rule change so that it has sufficient time to consider the proposed rule changes along with the comment received. Accordingly, the Commission, pursuant to Section 19(b)(2) of the Act,⁹ designates October 6, 2021, as the date by which the Commission should either approve or disapprove the proposed rule change (File No. SR-NYSEArca-2021-07).

⁹ 15 U.S.C. 78s(b)(2).

For the Commission, by the Division of Trading and Markets, pursuant to delegated authority.¹⁰
¹⁰ 17 CFR 200.30-3(a)(12).
J. Matthew DeLesDernier,
Assistant Secretary.

[FR Doc. 2021-16674 Filed 8-4-21; 8:45 am]

BILLING CODE 8011-01-P